DEPARTMENT OF COMMERCE

National Oceanic and Atmospheric Administration

[RTID 0648-XB500]

Endangered Species; File Nos. 25870, 19641, 20528, 23200, and 25864

AGENCY: National Marine Fisheries Service (NMFS), National Oceanic and Atmospheric Administration (NOAA), Commerce.

ACTION: Notice; receipt of applications for permits and permit modifications.

SUMMARY: Notice is hereby given that four applicants have applied in due form for permits or permit modifications for scientific research to take Atlantic (Acipenser oxyrinchus) and shortnose (A. brevirostrum) sturgeon, and one researcher has applied for a permit to take smalltooth sawfish (Pristis pectinata) for purposes of scientific research.

DATES: Written, telefaxed, or email comments must be received on or before November 12, 2021.

ADDRESSES: The applications and related documents are available for review by selecting “Records Open for Public Comment” from the Features box on the Applications and Permits for Protected Species (APPS) home page, https://apps.nmfs.noaa.gov, and then selecting the appropriate File No. from the list of available applications. These documents are also available upon written request via email to NMFS.Pr1Comments@noaa.gov.

Written comments on this application should be submitted via email to NMFS.Pr1Comments@noaa.gov. Please include the appropriate File No. 25870, 19641-05, 20528-08, 23200-04, and 25864 in the subject line of the email comment.

Those individuals requesting a public hearing should submit a similar written request via email to NMFS.Pr1Comments@noaa.gov. The request should set forth the specific reasons why a hearing on the requested application would be appropriate.

FOR FURTHER INFORMATION CONTACT: Malcolm Mohead or Erin Markin, (301) 427-8401.

SUPPLEMENTARY INFORMATION: The subject permits and permit modifications are requested under the authority of the Endangered Species Act of 1973, as amended (ESA; 16 U.S.C. 1531 et seq.) and the regulations governing the taking, importing, and exporting of endangered and threatened species (50 CFR parts 222-226).

File No. 25870: Harold M. Brundage, Environmental Research and Consulting, Inc., 325 Market Street, Lewes, DE 19958, requests a permit to conduct scientific research on Atlantic and shortnose sturgeon in freshwater and estuary areas of the Delaware River. Research objectives include study of abundance, recruitment, temporal-spatial distributions, reproduction, and habitat use in the lower non-tidal Delaware River, tidal Delaware River, and Delaware Bay. Up to 100 adult/sub-adult and 230 juvenile shortnose sturgeon and 100 adult/sub-adult and 230 juvenile Atlantic sturgeon would be captured by gill net or trawl, measured, weighed, biologically sampled (tissue), marked (passive integrated transponder (PIT) and Floy/T-bar tags), and photographed/videoed, annually, prior to release. Sub-sets of Atlantic and shortnose sturgeon may be anesthetized and implanted with acoustic transmitters or tethered in a nylon sock for hydro-acoustic testing. The researcher anticipates a total of one incidental mortality of each sturgeon species annually. The permit would be valid for up to 10 years from the date of issuance.

File No. 19641-05: The Connecticut Department of Energy and Environmental Protection (Tom Savoy, Responsible Party), P.O. Box 719, Old Lyme, CT 06371, requests a modification to Permit No. 19641-02. The subject modification to Permit No. 19641-02, issued on June 16, 2020 (85 FR 43820; July 20, 2020) authorizes researchers to determine the presence, status, health, habitat use, and movements of adult, sub-adult, and juvenile Atlantic and shortnose sturgeon in the Connecticut River. Researchers may capture sturgeon using gill nets and trawls, measure, weigh, PIT tag, tissue sample, anesthetize, acoustically tag, fin ray sample, gastric lavage, and photograph individuals prior to release. Early life stages (ELS) of both Atlantic and shortnose sturgeon may be lethally sampled to document the occurrence of spawning in the river. During research activities, unintentional mortality of up to one juvenile and adult/sub-adult life stage of each species may occur, annually. Due to an rapidly expanding population of shortnose sturgeon documented in the Connecticut River, the Permit Holder requests authorization to increase take numbers authorized for capture and recapture (i.e., from 500 to 1,000) of adult and sub-adult shortnose sturgeon, annually. The permit is valid through March 31, 2027.

File No. 20528-08: The South Carolina Department of Natural Resources (Responsible Party: Bill Post), 217 Fort Johnson Road, Charleston, SC 29412, proposes to modify Permit No. 20528-02. The subject modification to Permit No. 20528-02, issued on May 28, 2020 (85 FR 35637; June 11, 2020), authorizes researchers to conduct research on Atlantic and shortnose sturgeon to determine their presence, status, health, habitat use, and movements in South Carolina waters. Researchers may use gill nets to capture Atlantic and shortnose sturgeon to measure, weigh, PIT tag, tissue sample, acoustically tag, fin ray sample, gonad biopsy, and photograph prior to release. Early life stages of each species may be lethally sampled to document occurrence of spawning in systems. Up to two sturgeon of each species may unintentionally die annually during sampling activities. The permit holder requests authorization to (1) add the objective to perform enhancement activities that include the capture and transport of 20 adult shortnose sturgeon from the Cooper River to the Santee River, annually; (2) increase the number of adult/subadult shortnose sturgeon for capture, mark (dart, PIT), biologically sample (tissue), measure, and weigh from 35 to 200 annually in the Cooper River; (3) increase the annual number of adult/subadult and juvenile Atlantic sturgeon from 20 to 100 and 60 to 150, respectively, for capture, mark (dart, PIT), biologically sample(tissue), measure, and weigh in the Santee River; (4) increase the annual number of adult/subadult and juvenile shortnose sturgeon from 15 to 200 and 15 to 150, respectively, for capture, mark (dart, PIT), biologically sample(tissue), measure, and weigh in the Santee River; (5) increase the annual number of adult/subadult and juvenile shortnose sturgeon from 75 to 200 and 5 to 150, respectively, for capture, mark (PIT), biologically sample(tissue), measure, and weigh in Lakes Moultrie and Marion and associated tributaries; and (6) increase the annual number of juvenile Atlantic sturgeon for capture, anesthetize, acoustically tag, biologically sample (tissue), weigh, measure, and photograph/video from 10 to 20, annually, in the Winyah Bay system. The permit is valid through March 31, 2027.

File No. 23200-04: The University of North Carolina, Wilmington (Responsible Party: Frederick Scharf, Ph.D.), 601 South College Road, Wilmington, NC 28403, proposes to modify Permit No. 23200. The permit, originally issued on January 31, 2020 (85 FR 7978; February 12, 2020), authorizes researchers to conduct scientific research on adult, sub-adult, and juvenile Atlantic and shortnose sturgeon to determine their abundance, distribution, habitat use, and migration dynamics in the coastal rivers and estuaries of North Carolina basins (Cape Fear, Neuse, Tar/Pamlico, Roanoke/Chowan). Researchers may capture Atlantic and shortnose sturgeon using gill nets, trammel nets, or trawls, measure, weigh, mark (PIT, Floy), biologically sample (tissue), anesthetize, acoustically tag, and photograph/video sturgeon prior to release. The permit holder requests authorization to (1) increase the number of adult/subadult Atlantic sturgeon for capture, anesthetize, acoustically tag, mark (PIT, Floy), biologically sample (tissue), measure, weigh, and photograph/video from 20 to 40, annually, in the Cape Fear, Neuse, and Tar/Pamlico River systems, and (2) conduct sampling of Atlantic sturgeon ELS using egg mats and collect up to 100 ELS annually in each authorized system. The permit is valid through January 25, 2025.

File No. 25864: The Florida Fish and Wildlife Conservation Commission (Responsible Party, Gregg Poulakis, Ph.D.), Fish and Wildlife Research Institute, 585 Prineville Street, Port Charlotte, FL 33954, requests a permit to take smalltooth sawfish (U.S. Distinct Population Segment) in Florida waters and elsewhere within the species' range. The applicant is proposing to conduct studies, monitoring smalltooth sawfish to develop conservation and protective measures and ensure the species' recovery. Researchers are requesting to capture adult and sub-adult and juvenile animals and then measure, weigh, tag (i.e., internal or external acoustic, satellite, archival, PIT, and rototag), sample (i.e., genetic, blood, muscle biopsy), and photograph prior to release. The applicant also requests to have access to salvaged animals and parts taken throughout the species range and to import and export parts and samples for analysis, archival and future study. The permit would be valid for 10 years from the date of issuance.

Dated: October 6, 2021.
Julia Harrison,
Chief, Permits and Conservation Division, Office of Protected Resources, National Marine Fisheries Service.

[FR Doc. 2021-22103 Filed 10-8-21; 8:45 am]

BILLING CODE 3510-22-P